DEPARTMENT OF THE TREASURY

United States Mint

Notification of United States Mint Coin Product Price Adjustments

Summary: The United States Mint is adjusting the prices of 14 of its coin products for 2007.

Some of the United States Mint's annual sets have price increases to reflect the inclusion, beginning in 2007, of the Presidential $1 Coins. Some other products have price decreases to reflect lower costs attributable to manufacturing efficiencies and other factors. Effective January 19, 2007, the United States Mint will commence selling the following products at the prices indicated below:

Product | 2006 price | New 2007 price
2007 14-Coin Clad Proof Set (10-Coin—2006) | $22.95 | $26.95
2007 14-Coin Silver Proof Set (10-Coin—2006) | 37.95 | 44.95
2007 50 State Quarters Silver Proof Set (5-Coin) | 23.95 | 25.95
2007 28-Coin Uncirculated Set (20-Coin—2006) | 16.95 | 22.95
Golden Dollar roll | 35.50 | 35.95
50 State Quarters 1,000-coin bag | 300.00 | 309.95
50 State Quarters two-roll set | 32.00 | 32.95
50 State Quarters Clad Proof Set (5-Coin) | 15.95 | 13.95
Kennedy Half Dollar bag | 135.00 | 130.95
Kennedy Half Dollar rolls | 35.50 | 32.95
Golden Dollar bag | 347.00 | 319.95
50 State Quarters 100-coin bag | 35.50 | 32.95
50 State Quarters FDCC | 19.95 | 14.95
Education Set | 14.50 | 11.95

For Further Information Contact: Gloria C. Eskridge, Associate Director for Sales and Marketing; United States Mint; 801 Ninth Street, NW., Washington, DC 20220; or call 202-354-7500.

Authority: 31 U.S.C. 5111, 5112 & 9701.

Dated: January 19, 2007.
Edmund C. Moy,
Director, United States Mint.

[FR Doc. E7-982 Filed 1-23-07; 8:45 am]

BILLING CODE 4810-02-P